DEPARTMENT OF THE TREASURY

Internal Revenue Service

26 CFR Parts 31 and 32

[TD 9233]

RIN 1545-BC89

Sickness or Accident Disability Payments; Correction

AGENCY: Internal Revenue Service (IRS), Treasury.

ACTION: Correction to final regulations.

SUMMARY: This document corrects final regulations (TD 9233) that were published in the Federal Register on December 15, 2005 (70 FR 74198). The final regulations provide guidance regarding the treatment of payments made on account of sickness or accident disability under a workers' compensation law for purposes of the Federal Insurance Contributions Act (FICA).

DATES: This correction is effective December 15, 2005.

FOR FURTHER INFORMATION CONTACT: David Ford (202) 622-6040 (not a toll-free number).

SUPPLEMENTARY INFORMATION:

Background

The final regulations (TD 9233) that are the subject of this correction are under section 3121 of the Internal Revenue Code.

Need for Correction

As published, the final regulation (TD 9233) contain errors that may prove to be misleading and are in need of clarification.

Correction of the Publication

Accordingly, the publication of the final regulations (TD 9233), which were the subject of FR Doc. 05-23945, is corrected as follows:

1. On page 74198, column 2, in the preamble under the paragraph heading “Background”, lines 5 and 6, the language “for Federal Insurance Contributions Act (FICA) purposes payments made on “ is corrected to read “for FICA purposes payment made on”.

2. On page 74199, column 1, in the preamble under the paragraph heading “Explanation of Provisions”, first paragraph of the column, line 3, the language “extent necessary. The Service has” is corrected to read “extent necessary. The IRS has”.

Cynthia E. Grigsby,
Acting Chief, Publications and Regulations Branch, Legal Processing Division, Associate Chief Counsel, (Procedure and Administration).

[FR Doc. 06-681 Filed 1-24-06; 8:45 am]

BILLING CODE 4830-01-P